DEPARTMENT OF HEALTH AND HUMAN SERVICES

Office of the Secretary

[Document Identifier: HHS-OS-20078-60D]

Agency Information Collection Activities; Proposed Collection; Public Comment Request

AGENCY: Office of the Secretary, HHS.

ACTION: Notice.

SUMMARY: In compliance with section 3506(c)(2)(A) of the Paperwork Reduction Act of 1995, the Office of the Secretary, Department of Health and Human Services, announces plans to submit an Information Collection Request (ICR), described below, to the Office of Management and Budget (OMB). The ICR is for extending the use of the approved information collection assigned OMB control number 0990-0360, which expires on September 30, 2013. Prior to submitting that ICR to OMB, Office of the Secretary seeks comments from the public regarding the burden estimate, below, or any other aspect of the ICR.

DATES: Comments on the ICR must be received on or before September 24, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-20078-60D for reference.

Information Collection Request Title: Girls at Greater Risk for Juvenile Delinquency and HIV Prevention Program

OMB No.: 0990-0360

Abstract: The Office on Women's Health (OWH) is seeking an extension of its data collection associated with the evaluation of the Girls at Greater Risk for Juvenile Delinquency and HIV Prevention Program. The evaluation is designed to determine best practices and gender responsive strategies for at-risk girls between the ages of nine and 17 years. Data will continue to be collected from program participants (girls), parents of program participants, program staff (i.e. program directors and program staff), program partners, and community residents. Collected data will be submitted to OWH on a quarterly basis. Primarily private non-profit organizations and girls and adolescents participating in the program and their parents will be affected by this data collection.

Need and Proposed Use of the Information: The purpose of the extended data collection is to add to the evaluation database. The Girls at Greater Risk Program is in its final year and the data collected from participants will add another full data cohort to the evaluation.

Likely Respondents: The respondents are primarily private non-profit organizations, girls and adolescent females participating in funded “Girls at Greater Risk for Juvenile Delinquency and HIV Prevention Programs”, parents of program participants, program staff (i.e. program directors and program staff), program partners, and community residents that participate in community events sponsored by the Girls at Greater Risk Program.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Prevention Education Questionnaire (Girls and Female Adolescents) | 750 | 2 | 2 | 3,000
Girls at Greater Risk Focus Group Protocol for Program Participants and Background Information for Participant Focus Group | 120 | 1 | 1.5 | 180
Girls at Greater Risk Focus Group Protocol for Parents/Legal Guardians of Participants and Background Information for Parent Focus Group | 120 | 1 | 1.5 | 180
Girls at Greater Risk Focus Group Protocol for Partners and Background Information for Partners Focus Group | 120 | 1 | 1.5 | 180
Partners: Process Evaluation Questionnaire | 60 | 1 | .75 | 45
Program Staff: Process Evaluation Questionnaire | 10 | 2 | .75 | 15
Program Directors: Process Evaluation Questionnaire | 10 | 2 | 1.5 | 30
Program Staff data capture (entry) into data portal | 10 | 150 | .5 | 750
Community Event Survey | 250 | 1 | .083 | 21
Total | 1450 |  |  | 4,401

Office of the Secretary specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy Information Collection Clearance Officer.

[FR Doc. 2013-17920 Filed 7-25-13; 8:45 am]

BILLING CODE 4150-33-P